INTERNATIONAL TRADE COMMISSION

[Investigation No. 337-TA-1383]

Certain Electronic Eyewear Products and Components Thereof; Notice of Commission Decision Not To Review an Initial Determination Terminating the Investigation as to the Remaining Respondent Based on Settlement; Termination of the Investigation

AGENCY: U.S. International Trade Commission.

ACTION: Notice.

SUMMARY: Notice is hereby given that the U.S. International Trade Commission has determined not to review an initial determination (“ID”) (Order No. 71) of the presiding Administrative Law Judge (“ALJ”) granting an unopposed motion to terminate the investigation as to the remaining respondent Magic Leap, Inc. of Plantation, Florida (“Settling Respondent”) based on settlement, thereby terminating the investigation in its entirety. The investigation is terminated.

FOR FURTHER INFORMATION CONTACT: Houda Morad, Office of the General Counsel, U.S. International Trade Commission, 500 E Street SW, Washington, DC 20436, telephone (202) 708-4716. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On December 27, 2023, the Commission instituted this investigation under section 337 of the Tariff Act of 1930, as amended, 19 U.S.C. 1337 (“section 337”), based on a complaint filed by Ingeniospec, LLC (“Ingeniospec”) of San Jose, California. See 88 FR 89465-66 (Dec. 27, 2023). The complaint alleges a violation of section 337 based upon the importation into the United States, the sale for importation, and the sale within the United States after importation of certain electronic eyewear products and components thereof by reason of the infringement of certain claims of U.S. Patent Nos. 8,770,742; 10,310,296; 11,762,224 (“the '224 patent”); and 11,803,069 (“the '069 patent”). See id. In addition to the Settling Respondents, the notice of investigation names the following respondents: Ampere LLC, Ampere Technologies, and GGTR LLC, all of Dover, Delaware; Gogotoro LLC of Brooklyn, New York; Zhuhai Wicue Technology Co., Ltd. of Zhuhai, China; Bose Corporation of Framingham, Massachusetts; Epson America, Inc. of Los Alamitos, California; Seiko Epson Corporation of Nagano, Japan; Everysight Ltd. of Haifa, Israel; Everysight US Inc. of New York, New York; Quanta Computer Incorporated of Taoyuan City, Taiwan; Lenovo (United States), Inc. of Morrisville, North Carolina; Lenovo Group Limited of Hong Kong, China; Lenovo Information Products (Shenzhen) Co., Ltd. of Shenzhen, China; Lucyd Ltd. of London, United Kingdom; Innovative Eyewear, Inc. of North Miami, Florida; Luxottica Group S.p.A. of Milan, Italy; Luxottica of America, Inc. of Mason, Ohio; Razer Inc. and Razer USA Ltd., both of Irvine, California; TCL Technology Group Corporation of Huizhou, China; TCL Electronics Holdings Limited of Hong Kong, China; Falcon Innovation Technology, (Shenzhen) Co., Ltd. of Shenzhen, China; ThirdEye Gen, Inc. of Princeton, New Jersey; Vuzix Corporation of West Henrietta, New York; XREAL, Inc. of Sunnyvale, California; EXREAL Technology Limited of Hong Kong, China; and Matrixed Reality Technology Co., Ltd. of Wuxi, China. Id. The Office of Unfair Import Investigations is not a party to the investigation. Id.

The Commission previously terminated all respondents other than the Settling Respondent. See Order No. 17 (Jan. 31, 2024), unreviewed by Comm'n Notice (Feb. 29, 2024); Order No. 18 (Feb. 2, 2024), unreviewed by Comm'n Notice (Mar. 4, 2024); Order No. 24 (Feb. 27, 2024), unreviewed by Comm'n Notice (Mar. 21, 2024); Order No. 28 (Mar. 4, 2024), unreviewed by Comm'n Notice (Mar. 21, 2024); Order No. 35 (Mar. 20, 2024), unreviewed by Comm'n Notice (Apr. 17, 2024); Order No. 37 (Mar. 21, 2024), unreviewed by Comm'n Notice (Apr. 17, 2024); Order No. 39 (Apr. 1, 2024), unreviewed by Comm'n Notice (Apr. 26, 2024); Order No. 47 (May 10, 2024), unreviewed by Comm'n Notice (May 22, 2024); Order No. 56 (June 20, 2024), unreviewed by Comm'n Notice (July 8, 2024); Order No. 57 (June 20, 2024), unreviewed by Comm'n Notice (July 8, 2024); Order No. 69 (Sept. 19, 2024), unreviewed by Comm'n Notice (Oct. 8, 2024).

On July 8, 2024, the Commission terminated the investigation as to the '069 patent in its entirety, as well as claims 29, 30, 32, 40-42, and 48 of the '224 patent, based on partial withdrawal of the complaint. See Order No. 57 (June 20, 2024), unreviewed by Comm'n Notice (July 8, 2024).

On September 27, 2024, complainant Ingeniospec and the Settling Respondent filed a joint motion (“Motion”) to terminate the investigation as to the Settling Respondent based on settlement, to stay the procedural deadlines as to the Settling Respondent, and to limit service of the settlement agreement.

On October 9, 2024, the ALJ issued the subject ID (Order No. 71) granting the Motion. Pursuant to Commission Rule 210.21(b) (19 CFR 210.21(b)), the ID notes that “public and confidential versions of the settlement agreement between Ingeniospec and [the Settling Respondent] were attached to the motion.” ID at 2. The ID also notes that “the motion contains a statement that there are no other agreements, written or oral, express or implied between the parties concerning the subject matter of the investigation.” Id. The ID further finds, pursuant to Commission Rule 210.50(b)(2) (19 CFR 210.50(b)(2)), that termination of the Settling Respondent from the investigation will not adversely affect the public interest. See id. The ALJ further granted the request to limit service of the confidential version of the settlement agreement. See id. Because the Settling Respondent is the last remaining respondent in the investigation, the ID also terminates the investigation in its entirety. See id. at 3.

No petition for review of the subject ID was filed.

The Commission has determined not to review the subject ID. The investigation is terminated as to the Settling Respondent and in its entirety.

The Commission's vote for this determination took place on October 28, 2024.

The authority for the Commission's determination is contained in section 337 of the Tariff Act of 1930, as amended (19 U.S.C. 1337), and in part 210 of the Commission's Rules of Practice and Procedure (19 CFR part 210).

By order of the Commission.
Issued: October 28, 2024.
Lisa Barton,
Secretary to the Commission.

[FR Doc. 2024-25379 Filed 10-30-24; 8:45 am]

BILLING CODE 7020-02-P